DEPARTMENT OF TRANSPORTATION

Surface Transportation Board

Notifications of Trails Act Agreement and Substitute Sponsorship

AGENCY: Surface Transportation Board, DOT.

ACTION: Notice of extension of OMB approval of information collection.

SUMMARY: Pursuant to the Paperwork Reduction Act, 44 U.S.C. 3501-3521 (PRA), and Office of Management and Budget (OMB) regulations at 5 CFR 1320.11, the Surface Transportation Board has obtained OMB approval of an extension of the information collection—Notifications of Trails Act Agreement and Substitute Sponsorship.

This collection, which is codified at 49 CFR 1152.29, has been assigned OMB Control No. 2140-0017. Unless renewed, OMB approval expires on July 31, 2018. The display of a currently valid OMB control number for this collection is required by law. Under the PRA and 5 CFR 1320.8, an agency may not conduct or sponsor, and a person is not required to respond to, a collection of information unless the collection displays a currently valid OMB control number.

Dated: October 7, 2015.
Jeffrey Herzig,
Clearance Clerk.

[FR Doc. 2015-25926 Filed 10-9-15; 8:45 am]

BILLING CODE 4915-01-P